OFFICE OF PERSONNEL MANAGEMENT

Excepted Service; July 2014

AGENCY: U.S. Office of Personnel Management (OPM).

ACTION: Notice.

SUMMARY: This notice identifies Schedule A, B, and C appointing authorities applicable to a single agency that were established or revoked from July 1, 2014, to July 31, 2014.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A authorities to report during July 2014.

Schedule B

No Schedule B authorities to report during July 2014.

Schedule C

The following Schedule C appointing authorities were approved during July 2014.

The following Schedule C appointing authorities were approved during July 2014.
Agency name | Organization name | Position title | Authorization number | Effective date
APPALACHIAN REGIONAL COMMISSION | Appalachian Regional Commission | Policy Advisor | AP140001 | 7/23/2014
DEPARTMENT OF COMMERCE | Office of the Assistant Secretary for Economic Development | Confidential Assistant | DC140128 | 7/1/2014
| Office of White House Liaison | Deputy Director, Office of White House Liaison | DC140129 | 7/1/2014
| Immediate Office | Special Assistant | DC140135 | 7/16/2014
| Office of Under Secretary | Special Advisor | DC140137 | 7/16/2014
| Office of Policy and Strategic Planning | Confidential Assistant | DC140138 | 7/17/2014
| Office of the Assistant Secretary for Communications and Information | Senior Advisor | DC140131 | 7/24/2014
| Office of the Chief of Staff | Scheduling Assistant | DC140142 | 7/24/2014
| Office of Business Liaison | Deputy Director, Office of Business Liaison | DC140143 | 7/24/2014
| Office of the Deputy Assistant Secretary for Administration | Special Assistant | DC140126 | 7/29/2014
CONSUMER PRODUCT SAFETY COMMISSION | Office of Commissioners | Special Assistant (Legal) | PS140007 | 7/25/2014
|  | Special Assistant | PS140009 | 7/31/2014
DEPARTMENT OF DEFENSE | Office of the Secretary | Special Assistant | DD140113 | 7/7/2014
| Washington Headquarters Services | Defense Fellow (3) | DD140114 | 7/7/2014
|  |  | DD140115 | 7/7/2014
|  |  | DD140119 | 7/23/2014
| Office of the Under Secretary of Defense (Policy) | Special Assistant Office of the Under Secretary of Defense for Policy | DD140120 | 7/10/2014
| Office of Assistant Secretary of Defense (Legislative Affairs) | Special Assistant | DD140117 | 7/11/2014
| Office of the Assistant Secretary of Defense (Asian and Pacific Security Affairs) | Principal Director Afghanistan, Pakistan and Central Asia | DD140122 | 7/15/2014
| Assistant To the Secretary of Defense for Nuclear and Chemical and Biological Defense Programs | Senior Advisor(Nuclear, Chemical and Biological Defense Programs) | DD140121 | 7/22/2014
| Office of Principal Deputy Under Secretary for Policy | Special Assistant | DD140101 | 7/24/2014
|  | Special Assistant, Plans | DD140125 | 7/25/2014
DEPARTMENT OF THE NAVY | Office of the Assistant Secretary of Navy (Manpower and Reserve Affairs) | Special Assistant | DN140032 | 7/17/2014
DEPARTMENT OF EDUCATION | Office of English Language Acquisition, Language Enhancement, and Academic Achievement for Limited English Proficient Students | Deputy Director for Office of English Language and Acquisition | DB140085 | 7/2/2014
| Office of the Secretary | Special Assistant | DB140090 | 7/2/2014
| Office of Career Technical and Adult Education | Special Assistant | DB140089 | 7/2/2014
| Office of Elementary and Secondary Education | Confidential Assistant | DB140091 | 7/10/2014
| Office of Legislation and Congressional Affairs | Special Assistant | DB140094 | 7/14/2014
| Office of Communications and Outreach | Special Assistant | DB140095 | 7/14/2014
| Office of the Under Secretary | Special Assistant | DB140096 | 7/25/2014
DEPARTMENT OF ENERGY | Office of the Secretary of Energy Advisory Board | Deputy Director | DE140081 | 7/1/2014
| Assistant Secretary for Congressional and Intergovernmental Affairs | Legislative Affairs Specialist | DE140085 | 7/15/2014
| Office of Public Affairs | Press Assistant | DE140084 | 7/18/2014
| Office of General Counsel | Senior Legal Advisor | DE140088 | 7/18/2014
| Office of Energy Policy and Systems Analysis | Chief of Staff/Associate Director | DE140093 | 7/28/2014
EXECUTIVE OFFICE OF THE PRESIDENT | Council on Environmental Quality (EOP) | Special Assistant (Legislative Affairs) | OP140002 | 7/11/2014
EXPORT-IMPORT BANK | Office of the Chief of Staff | Senior Vice President and Chief of Staff | EB140009 | 7/1/2014
| Office of the Chairman | Special Assistant | EB140010 | 7/23/2014
GENERAL SERVICES ADMINISTRATION | Office of Communications and Marketing | Senior Communications Advisor | GS140048 | 7/25/2014
DEPARTMENT OF HEALTH AND HUMAN SERVICES | Office of the Assistant Secretary for Public Affairs | Confidential Assistant | DH140103 | 7/2/2014
|  | Press Secretary | DH140107 | 7/3/2014
| Office of the Secretary | Confidential Assistant | DH140113 | 7/23/2014
| Office of the Assistant Secretary for Children and Families | Confidential Assistant | DH140114 | 7/25/2014
DEPARTMENT OF HOMELAND SECURITY | Office of the Under Secretary for Management | Deputy Chief of Staff | DM140187 | 7/1/2014
| Office of the Assistant Secretary for Public Affairs | Strategic Planning and Coordination Advisor | DM140193 | 7/7/2014
| Office of the General Counsel | Attorney-Advisor | DM140194 | 7/7/2014
| United States Customs and Border Protection | Deputy Chief of Staff, Policy | DM140198 | 7/11/2014
|  | Special Assistant | DM140205 | 7/17/2014
|  | Advisor | DM140213 | 7/23/2014
| Office of the Secretary | Deputy Secretary Briefing Book Coordinator | DM140206 | 7/22/2014
| Federal Emergency Management Agency | Special Assistant (2) | DM140207 | 7/22/2014
|  |  | DM140208 | 7/22/2014
|  | Director of Intergovernmental Affairs | DM140210 | 7/22/2014
| Office of the Under Secretary for National Protection and Programs Directorate | Special Advisor for Infrastructure Protection | DM140212 | 7/23/2014
|  | Cyber Security Strategist | DM140216 | 7/30/2014
| Office of the Assistant Secretary for Policy | Advisor for Global Law Enforcement Partnerships | DM140214 | 7/23/2014
|  | Advisor | DM140219 | 7/30/2014
DEPARTMENT OF HOUSING AND URBAN DEVELOPMENT | Office of Housing | Special Policy Advisor | DU140031 | 7/7/2014
| Office of Fair Housing and Equal Opportunity | Special Policy Advisor | DU140032 | 7/7/2014
| Office of the Secretary | Senior Advisor | DU140034 | 7/18/2014
|  | White House Liaison | DU140035 | 7/18/2014
|  | Deputy Chief of Staff | DU140037 | 7/18/2014
|  | Executive Assistant | DU140038 | 7/18/2014
DEPARTMENT OF THE INTERIOR | Assistant Secretary—Policy, Management and Budget | Advisor | DI140038 | 7/1/2014
| United States Geological Survey | Confidential Assistant (2) | DI140050 | 7/10/2014
|  |  | DI140051 | 7/18/2014
| Secretary's Immediate Office | Special Assistant for Advance | DI140053 | 7/10/2014
| Office of the Deputy Secretary | Special Assistant | DI140065 | 7/17/2014
| Office of Congressional and Legislative Affairs | Senior Counsel | DI140049 | 7/25/2014
|  | Special Assistant, Office of Congressional and Legislative Affairs | DI140063 | 7/25/2014
DEPARTMENT OF JUSTICE | Civil Division | Chief of Staff | DJ140087 | 7/14/2014
| Office of the Attorney General | Special Assistant | DJ140088 | 7/14/2014
|  | Director of Advance | DJ140094 | 7/18/2014
| Civil Rights Division | Senior Counsel | DJ140089 | 7/14/2014
DEPARTMENT OF LABOR | Office of Public Affairs | Special Assistant | DL140076 | 7/11/2014
| Office of the Assistant Secretary for Policy | Senior Policy Advisor | DL140081 | 7/28/2014
| Office of the Secretary | Deputy White House Liaison | DL140083 | 7/29/2014
OFFICE OF GOVERNMENT ETHICS | Office of Government Ethics | Confidential Assistant | GG140002 | 7/17/2014
OFFICE OF MANAGEMENT AND BUDGET | Office of the Director | Assistant | BO140024 | 7/7/2014
|  | Advisor and Assistant | BO140029 | 7/18/2014
OFFICE OF NATIONAL DRUG CONTROL POLICY | Office of National Drug Control Policy | Associate Director for Intergovernmental Public Affairs | QQ140004 | 7/16/2014
| Office of the Director | Policy Advisor | QQ140005 | 7/25/2014
OFFICE OF THE UNITED STATES TRADE REPRESENTATIVE | Office of the Ambassador | Assistant United States Trade Representative for Intergovernmental Affairs and Public Engagement | TN140007 | 7/24/2014
OVERSEAS PRIVATE INVESTMENT CORPORATION | Overseas Private Investment Corporation | Senior Advisor (2) | PQ140008 | 7/10/2014
|  |  | PQ140010 | 7/10/2014
SMALL BUSINESS ADMINISTRATION | Office of Government Contracting and Business Development | Senior Advisor | SB140029 | 7/10/2014
| Office of Communications and Public Liaison | Special Advisor for Stakeholder Outreach | SB140030 | 7/10/2014
| Office of the Administrator | Policy Advisor | SB140031 | 7/15/2014
|  | Director of Scheduling, Operations, and Advance | SB140033 | 7/23/2014
| Office of Congressional and Legislative Affairs | Deputy Associate Administrator for Congressional and Legislative Affairs | SB140034 | 7/23/2014
DEPARTMENT OF STATE | Foreign Policy Planning Staff | Senior Advisor | DS140112 | 7/8/2014
| Office of the Global Women's Issues | Staff Assistant | DS140115 | 7/18/2014
| Office of the United States Aids Coordinator | Staff Assistant | DS140105 | 7/24/2014
|  | Senior Advisor | DS140114 | 7/31/2014
| Bureau of Western Hemisphere Affairs | Senior Advisor | DS140117 | 7/29/2014
| Bureau of Legislative Affairs | Legislative Management Officer | DS140118 | 7/29/2014
| Office of Faith Based Community Initiatives | Staff Assistant | DS140119 | 7/31/2014
TRADE AND DEVELOPMENT AGENCY | Office of the Director | Public Affairs Specialist | TD140002 | 7/15/2014
DEPARTMENT OF TRANSPORTATION | Assistant Secretary for Budget and Programs | Special Assistant | DT140039 | 7/3/2014
| Office of the Secretary | Director of Scheduling and Advance | DT140041 | 7/3/2014
| Office of Administrator | Director of Communications and Public Affairs | DT140045 | 7/22/2014
|  | Director for Governmental Affairs | DT140046 | 7/22/2014
| Assistant Secretary for Governmental Affairs | Special Assistant | DT140049 | 7/24/2014
DEPARTMENT OF THE TREASURY | Office of the Secretary | Associate Director | DY140099 | 7/10/2014
|  | Senior Advisor | DY140100 | 7/10/2014
|  | Counselor | DY140104 | 7/15/2014
|  | Deputy Executive Secretary | DY140109 | 7/25/2014
UNITED STATES INTERNATIONAL TRADE COMMISSION | Office of the Chairman | Staff Assistant (Economics) | TC140015 | 7/29/2014

The following Schedule C appointing authorities were revoked during July 2014.

Agency | Organization name | Position title | Authorization number | Vacate date
DEPARTMENT OF AGRICULTURE | Natural Resources Conservation Service | Special Assistant | DA090189 | 7/12/2014
| Office of Communications | Deputy Director | DA130220 | 7/18/2014
DEPARTMENT OF COMMERCE | National Telecommunications and Information Administration | Chief of Staff for National Telecommunications and Information Administration | DC090130 | 7/26/2014
| National Oceanic and Atmospheric Administration | Special Assistant | DC120029 | 7/26/2014
| Office of Under Secretary | Senior Advisor to the Under Secretary for Oceans and Atmosphere and the Principal Deputy Under Secretary | DC120127 | 7/26/2014
DEPARTMENT OF EDUCATION | Office for Civil Rights | Deputy Assistant Secretary for Policy | DB120095 | 7/12/2014
| Office of the Secretary | Confidential Assistant | DB120035 | 7/13/2014
FEDERAL MINE SAFETY AND HEALTH REVIEW COMMISSION | Office of the Chairman | Confidential Assistant | FR100001 | 7/1/2014
DEPARTMENT OF HEALTH AND HUMAN SERVICES | Office of Intergovernmental and External Affairs | Regional Director, New York, New York, Region II | DH100113 | 7/18/2014
| Office of the Deputy Secretary | Regional Director, San Francisco, California, Region IX | DH100019 | 7/18/2014
DEPARTMENT OF HOMELAND SECURITY | Office of the Secretary | Special Assistant | DM140019 | 7/7/2014
| Office of the Chief of Staff | Advance Representative | DM120025 | 7/11/2014
| Office of the Under Secretary for Management | Assistant for Special Projects | DM090410 | 7/12/2014
| Office of the Assistant Secretary for Intergovernmental Affairs | Local Affairs Coordinator | DM120073 | 7/15/2014
| Office of the Under Secretary for Intelligence and Analysis | Liaison for Community Partnership and Strategic Engagement | DM120013 | 7/26/2014
| Office of Assistant Secretary for Legislative Affairs | Chief of Staff | DM120181 | 7/26/2014
| Office of the Under Secretary for Intelligence and Analysis | Special Advisor | DM140043 | 7/26/2014
DEPARTMENT OF HOUSING AND URBAN DEVELOPMENT | Office of the Secretary | White House Liaison | DU110022 | 7/20/2014
| Office of Public Affairs | Assistant Press Secretary | DU120043 | 7/26/2014
DEPARTMENT OF THE INTERIOR | Office of Congressional and Legislative Affairs | Senior Counsel | DI130031 | 7/19/2014
DEPARTMENT OF JUSTICE | Civil Division | Counsel (2) | DJ120095 | 7/13/2014
|  |  | DJ120102 | 7/26/2014
| Office of Public Affairs | Deputy Press Secretary | DJ140011 | 7/24/2014
DEPARTMENT OF LABOR | Office of the Secretary | Deputy Director of Public Engagement | DL140016 | 7/5/2014
DEPARTMENT OF THE NAVY | Office of the Under Secretary of the Navy | Special Assistant | DN110041 | 7/26/2014
OFFICE OF NATIONAL DRUG CONTROL POLICY | Office of Public Affairs | Associate Director for Public Affairs | QQ100015 | 7/13/2014
SMALL BUSINESS ADMINISTRATION | Office of the Administrator | Senior Advisor to the Chief Operating Officer | SB120028 | 7/5/2014
|  | Director of Scheduling and Operations | SB110043 | 7/26/2014
| Office of Communications and Public Liaison | Deputy Assistant Administrator for Office of Communications and Public Liaison | SB130019 | 7/5/2014
| Office of Government Contracting and Business Development | Special Advisor to the Associate Administrator for Government Contracting and Business Development | SB120022 | 7/12/2014
| Office of Congressional and Legislative Affairs | Deputy Assistant Administrator for Congressional and Legislative Affairs | SB110040 | 7/26/2014
DEPARTMENT OF TRANSPORTATION | Office of the Secretary | Associate Director for Scheduling and Advance | DT140013 | 7/12/2014
| Office of the Administrator | Director of Communications | DT130020 | 7/26/2014
DEPARTMENT OF THE TREASURY | Office of the Secretary | Special Assistant | DY130027 | 7/19/2014

Authority: 5 U.S.C. 3301 and 3302; E.O. 10577, 3 CFR, 1954-1958 Comp., p. 218.

U.S. Office of Personnel Management.
Katherine Archuleta,
Director.

[FR Doc. 2014-22106 Filed 9-16-14; 8:45 am]

BILLING CODE 6325-39-P